DEPARTMENT OF ENERGY

Federal Energy Regulatory Commission

Combined Notice of Filings #2

Take notice that the Commission received the following electric corporate filings:

Docket Numbers: EC12-104-000.

Applicants: The Narragansett Electric Company.

Description: Application Pursuant to Section 203 of the Federal Power Act for Authorization to Acquire Interconnection Facilities and Request for Expedited Treatment and Certain Waivers of The Narragansett Electric Company.

Filed Date: 5/24/12.

Accession Number: 20120524-5123.

Comments Due: 5 p.m. ET 6/14/12.

Take notice that the Commission received the following electric rate filings:

Docket Numbers: ER11-3322-002.

Applicants: PJM Interconnection, L.L.C.

Description: PJM response to data request of the Office of Energy Market Regulation, dated May 9, 2012.

Filed Date: 5/23/12.

Accession Number: 20120523-5148.

Comments Due: 5 p.m. ET 6/13/12.

Docket Numbers: ER12-91-003.

Applicants: PJM Interconnection, L.L.C., Duke Energy Kentucky, Inc., Duke Energy Ohio, Inc.

Description: PJM Interconnection, L.L.C. submits tariff filing per 35: Compliance Filing per Order dated 4/24/2012 in ER12-91 and ER12-92 to be effective 1/1/2012.

Filed Date: 5/24/12.

Accession Number: 20120524-5114.

Comments Due: 5 p.m. ET 6/14/12.

Docket Numbers: ER12-92-003.

Applicants: PJM Interconnection, L.L.C., Duke Energy Ohio, Inc., Duke Energy Kentucky, Inc.

Description: PJM Interconnection, L.L.C. submits tariff filing per 35: Compliance Filing per Order dated 4/24/2012 in ER12-91 & ER12-92 to be effective N/A.

Filed Date: 5/24/12.

Accession Number: 20120524-5115.

Comments Due: 5 p.m. ET 6/14/12.

Docket Numbers: ER12-1525-001.

Applicants: NRG Solar Alpine LLC.

Description: Supplement to Application for Market-Based Rate Authority to be effective 6/11/2012.

Filed Date: 5/24/12.

Accession Number: 20120524-5000.

Comments Due: 5 p.m. ET 6/14/12.

Docket Numbers: ER12-1836-000.

Applicants: Louisville Gas and Electric Company.

Description: EKPC NITSA Revisions to be effective 5/25/2012.

Filed Date: 5/24/12.

Accession Number: 20120524-5061.

Comments Due: 5 p.m. ET 6/14/12.

Docket Numbers: ER12-1837-000.

Applicants: Duke Energy Ohio, Inc., Midwest Independent Transmission System Operator, Inc.

Description: Duke Cancellation filing to be effective 1/1/2012.

Filed Date: 5/24/12.

Accession Number: 20120524-5085.

Comments Due: 5 p.m. ET 6/14/12.

Docket Numbers: ER12-1838-000.

Applicants: Horse Butte Wind I LLC.

Description: Application of Horse Butte Wind I LLC for Order Accepting MBR Tariff to be effective 12/31/9998.

Filed Date: 5/24/12.

Accession Number: 20120524-5099.

Comments Due: 5 p.m. ET 6/14/12.

Docket Numbers: ER12-1839-000.

Applicants: Midwest Independent Transmission System Operator, Inc.

Description: Midwest Independent Transmission System Operator, Inc. Cancellation of various Interconnection Agreements, Transmission Service Agreements and Exhibit WDS.

Filed Date: 5/24/12.

Accession Number: 20120524-5122.

Comments Due: 5 p.m. ET 6/14/12.

Docket Numbers: ER12-1840-000.

Applicants: Michigan Electric Transmission Company, LLC.

Description: Michigan Electric Transmission Company, LLC submits tariff filing per 35.13(a)(2)(iii: Certificate of Concurrence to be effective 7/13/2012.

Filed Date: 5/24/12.

Accession Number: 20120524-5127.

Comments Due: 5 p.m. ET 6/14/12.

Docket Numbers: ER12-1841-000.

Applicants: Michigan Electric Transmission Company, LLC.

Description: Michigan Electric Transmission Company, LLC submits tariff filing per 35.13(a)(2)(iii: Certificate of Concurrence to be effective 7/11/2012.

Filed Date: 5/24/12.

Accession Number: 20120524-5137.

Comments Due: 5 p.m. ET 6/14/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2012.
Nathaniel J. Davis, Sr.,
Deputy Secretary.

[FR Doc. 2012-13546 Filed 6-4-12; 8:45 am]

BILLING CODE 6717-01-P